DEPARTMENT OF HEALTH AND HUMAN SERVICES

Food and Drug Administration

[Docket No. 02N-0037]

Postponement of Public Informational Meeting on Antimicrobial Resistance

AGENCY: Food and Drug Administration, HHS.

ACTION: Notice.

SUMMARY: The Food and Drug Administration (FDA) is announcing the postponement of a public informational meeting on antimicrobial resistance originally scheduled for April 26, 2002. FDA will publish a notice with the new date and information for the meeting in the Federal Register at a future time.

DATES: The public informational meeting on antimicrobial resistance scheduled for April 26, 2002, from 9:30 a.m. to 4:30 p.m. has been postponed.

FOR FURTHER INFORMATION CONTACT: Vash Klein, Center for Veterinary Medicine (HFV-12), Food and Drug Administration, 7519 Standish Pl., Rockville, MD 20855, 301-827-3795.

SUPPLEMENTARY INFORMATION: In the Federal Register of April 9, 2002 (67 FR 17076), FDA announced that a public informational meeting on antimicrobial resistance would be held at the Capital Hilton Hotel, Congressional Room, 1001 16th St. (16th and K Sts.), Washington, DC, on April 26, 2002, from 9:30 a.m. to 4:30 p.m. FDA is postponing this meeting. When FDA sets a new date for the meeting, we will publish a notice announcing the date, time, and location in the Federal Register.

Dated: April 19, 2002.
Margaret M. Dotzel,
Associate Commissioner for Policy.

[FR Doc. 02-10225 Filed 4-22-02; 4:55 pm]

BILLING CODE 4160-01-S